NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on February 7-9, 2002, in Conference Room T-2B3, 11545 Rockville Pike, Rockville, Maryland. The date of this meeting was previously published in the Federal Register on Monday, November 26, 2001 (66 FR 59034).

Thursday, February 7, 2002

8:30 A.M.-8:35 A.M.: Opening Remarks by the ACRS Chairman (Open)—The ACRS Chairman will make opening remarks regarding the conduct of the meeting.

8:35 A.M.-9:45 A.M.: Risk-Informed Regulation Implementation Plan (Open)—The Committee will hear presentations by and hold discussions with representatives of the NRC staff regarding update to risk-informed regulation implementation plan.

10:00 A.M.-12:00 Noon: Meeting with the EDO and the Office Directors of NRR, NMSS, and RES (Open)—The Committee will hold discussions with the NRC Executive Director for Operations (EDO), and Directors of the Office of Nuclear Reactor Regulation (NRR), Office of Nuclear Regulatory Research (RES), and Office of Nuclear Material Safety and Safeguards (NMSS) on items of mutual interest. Members of the ACNW will participate in this discussion.

1:00 P.M.-2:30 P.M.: Proposed Final Revision to Regulatory Guide 1.174 and SRP Chapter 19 (Open)—The Committee will hear presentations by and hold discussions with representatives of the NRC staff regarding the proposed final revision to Regulatory Guide 1.174 and associated Standard Review Plan (SRP) Chapter 19 to address the use of probabilistic risk assessment (PRA) in license amendment reviews and plans to develop guidance related to PRA quality, including possible endorsement of industrial standards proposed by the American Society of Mechanical Engineers and American Nuclear Society.

2:50 P.M.-4:50 P.M.: PTS Technical Bases Reevaluation Project (Open)—The Committee will hear presentations by and hold discussions with representatives of the NRC staff regarding the status of the Pressurized Thermal Shock (PTS) Technical Bases Reevaluation Project, including initial results of the Oconee Unit 1 reactor pressure vessel failure frequency calculated by using the Fatigue Assessment of Vessels—Oak Ridge (FAVOR) code, and the associated models, inputs, and assumptions used in this code.

5:10 P.M.-7:00 P.M.: Discussion of Proposed ACRS Reports (Open)—The Committee will discuss proposed ACRS reports on matters considered during this meeting, as well as a proposed ACRS report on the NRC Safety Research Program.

Friday, February 8, 2002

8:30 A.M.-8:35 A.M.: Opening Remarks by the ACRS Chairman (Open)—The ACRS Chairman will make opening remarks regarding the conduct of the meeting.

8:35 A.M.-9:00 A.M.: Subcommittee Report (Open)—The Committee will hear a report by the Chairman of the Thermal-Hydraulic Phenomena Subcommittee on matters discussed at the January 16-18, 2002 meeting.

9:00 A.M.-10:00 A.M.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

10:00 A.M.-10:15 A.M.: Reconciliation of ACRS Comments and Recommendations (Open)—The Committee will discuss the responses from the NRC Executive Director for Operations (EDO) to comments and recommendations included in recent ACRS reports and letters. The EDO responses are expected to be made available to the Committee prior to the meeting.

10:35 A.M.-12:00 Noon: Follow-up Items Resulting from the January 24-26, 2002, ACRS Retreat (Open)—The Committee will discuss the follow-up items resulting from the ACRS retreat on January 24-26, 2002, assignments, and schedule for closure of these items.

3:00 P.M.-7:00 P.M.: Discussion of Proposed ACRS Reports (Open)—The Committee will discuss proposed ACRS reports.

Saturday, February 9, 2002

8:30 A.M.-12:30 P.M.: Discussion of Proposed ACRS Reports (Open)—The Committee will continue its discussion of proposed ACRS reports.

12:30 P.M.-1:00 P.M.: Miscellaneous (Open)—The Committee will discuss matters related to the conduct of Committee activities and matters and specific issues that were not completed during previous meetings, as time and availability of information permit.

Procedures for the conduct of and participation in ACRS meetings were published in the Federal Register on October 3, 2001 (66 FR 50462). In accordance with those procedures, oral or written views may be presented by members of the public, including representatives of the nuclear industry. Electronic recordings will be permitted only during the open portions of the meeting and questions may be asked only by members of the Committee, its consultants, and staff. Persons desiring to make oral statements should notify Dr. Sher Bahadur, ACRS, five days before the meeting, if possible, so that appropriate arrangements can be made to allow necessary time during the meeting for such statements. Use of still, motion picture, and television cameras during the meeting may be limited to selected portions of the meeting as determined by the Chairman. Information regarding the time to be set aside for this purpose may be obtained by contacting Dr. Sher Bahadur prior to the meeting. In view of the possibility that the schedule for ACRS meetings may be adjusted by the Chairman as necessary to facilitate the conduct of the meeting, persons planning to attend should check with Dr. Sher Bahadur if such rescheduling would result in major inconvenience.

Further information regarding topics to be discussed, whether the meeting has been canceled or rescheduled, the Chairman's ruling on requests for the opportunity to present oral statements, and the time allotted therefor can be obtained by contacting Dr. Sher Bahadur (telephone 301-415-0138), between 7:30 a.m. and 4:15 p.m., EST.

ACRS meeting agenda, meeting transcripts, and letter reports are available for downloading or viewing on the Internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m., EST, at least 10 days before the meeting to ensure the availability of this service. Individuals or organizations requesting this service will be responsible for telephone line charges and for providing the equipment and facilities that they use to establish the videoteleconferencing link. The availability of videoteleconferencing services is not guaranteed.

Dated: January 15, 2002.
Andrew L. Bates,
Advisory Committee Management Officer.

[FR Doc. 02-1489 Filed 1-18-02; 8:45 am]

BILLING CODE 7590-01-P